DEPARTMENT OF COMMERCE

Economic Development Administration

Notice of Petitions by Producing Firms for Determination of Eligibility To Apply for Trade Adjustment Assistance

AGENCY: Economic Development Administration (EDA), Commerce.

ACTION: To give all interested parties an opportunity to comment.

Petitions have been accepted for filing on the dates indicated from the firms listed below.

List of Petition Action by Trade Adjustment Assistance for Period January 23, 2003-February 21, 2003
Firm name | Address | Date petition accepted | Product
Victoria Vogue, Inc | 90 Southland Drive, Bethlehem, PA 18017 | 02/07/03 | Powder puffs, sponges, brushes, eye shadow applicators, bath sponges and other cosmetic and beauty accessories.
Hardinge, Inc | One Hardinge Drive, Elmira, NY 14902 | 02/03/03 | Metal cutting machine (CNC) tools (lathes/turning machines).
Lauraville Specialty Products | 122 North Genesee Street, Geneva, NY 14456 | 02/07/03 | Encapsulated labels.
Magruder Color Co., Inc | 11029 Newark Avenue, Elizabeth, NJ 07208 | 02/03/03 | Organic and fluorescent color pigments and printing ink vehicles.
NTR, Inc. dba Blue Water, Ltd | 209 Lovvorn Road, Carrollton, GA 30177 | 01/30/03 | Recreational climbing rope.
House Manufacturing Co., Inc | 3720 Hwy 1, Cherry Valley, AR 72324 | 01/28/03 | Equipment for wastewater treatment (irrigation), and aeration including pumps.
Laville Frames, Inc | 8300 Madrid Avenue, Baton Rouge, LA 70814 | 01/30/03 | Wooden frames.
Infidel, Inc | 1417 Roy Road, Bellingham, VA 98226 | 02/04/03 | Salmon.
Riggins Engineering, Inc | 13932 Saticoy Street, Van Nuys, CA 91402 | 02/11/03 | Components of flight control systems.
A. Rafkin Company | 1400 Sans Souci Parkway, Wilkes Barre, PA 18083 | 02/07/03 | Specialty locking bags used for cash management control and mail delivery.
Weiss-Aug Co., Inc | 3 Merry Lane, East Hanover, NJ 07936 | 02/07/03 | Custom stamped and insert molded components of metal and plastic for the auto, telecommunications, medical and electronics industries.
Colonial Bronze Co., Inc | 511 Winsted Road, Torrington, CT 06790 | 02/14/03 | Cabinet and appliance hardware—knobs, pulls and handles of bronze and brass.
Hansen Farms | Rt. 1, Box 134, Palacios, TX 77465 | 02/14/03 | Agricultural and aquaculture farming including catfish.
Jerry A. Yagie | P.O. Box 65, Perryville, AK 99648 | 01/30/03 | Salmon.
Dennis F. Shangin dba F/V Miranda Leigh | P.O. Box 3104, Soldotna, AK 99669 | 12/11/02 | Salmon.
Raechel Hinderer dba F/V Miranda Leigh | P.O. Box 13, Chignik, AK 99564 | 01/30/03 | Salmon.
Archie A. Kalmakoff | P.O. Box 69, Perryville, AK 99648 | 01/30/03 | Salmon.

The petitions were submitted pursuant to section 251 of the Trade Act of 1974 (19 U.S.C. 2341). Consequently, the United States Department of Commerce has initiated separate investigations to determine whether increased imports into the United States of articles like or directly competitive with those produced by each firm contributed importantly to total or partial separation of the firm's workers, or threat thereof, and to a decrease in sales or production of each petitioning firm. Any party having a substantial interest in the proceedings may request a public hearing on the matter. A request for a hearing must be received by Trade Adjustment Assistance, Room 7315, Economic Development Administration, U.S. Department of Commerce, Washington, DC 20230, no later than the close of business of the tenth calendar day following the publication of this notice.

(The Catalog of Federal Domestic Assistance official program number and title of the program under which these petitions are submitted is 11.313, Trade Adjustment Assistance.)
Dated: February 25, 2003.
Anthony J. Meyer,
Coordinator, Trade Adjustment and Technical Assistance.

[FR Doc. 03-4979 Filed 3-3-03; 8:45 am]

BILLING CODE 3510-24-P